DEPARTMENT OF HOMELAND SECURITY

Office of the Secretary

Waiver of Compliance With Navigation Laws; Hurricanes Harvey and Irma

AGENCY: Office of the Secretary, Department of Homeland Security.

ACTION: Notice.

Hurricane Harvey striking the U.S. Gulf Coast has resulted in severe disruptions in both the midstream and downstream sectors of the oil supply system. Some refineries and pipeline networks are shut-in or running at reduced rates. In addition, conditions exist for a potential imminent shortage of energy supply in areas predicted to be affected by Hurricane Irma. In light of the impact on the affected region's energy needs, the Department of Energy (DOE) has recommended that the Department of Homeland Security waive the requirements of the Jones Act in the interest of national defense to facilitate the transportation of the necessary volume of petroleum products for a 7-day period. Furthermore, the Department of Defense (DoD) has requested a 7-day waiver of the Jones Act in the interest of national defense, commencing immediately.

The Jones Act, 46 United States Code (U.S.C.) 55102, states “a vessel may not provide any part of the transportation of merchandise by water, or by land and water, between points in the United States to which the coastwise laws apply, either directly or via a foreign port” unless the vessel was built in and documented under the laws of the United States and is wholly owned by persons who are citizens of the United States. Such a vessel, after obtaining a coastwise endorsement from the U.S. Coast Guard, is “coastwise-qualified.” The coastwise laws generally apply to points in the territorial sea, which is defined as the belt, three nautical miles wide, seaward of the territorial sea baseline, and to points located in internal waters, landward of the territorial sea baseline.

The navigation laws, including the coastwise laws, can be waived under the authority provided by 46 U.S.C. 501. The statute provides in relevant part, “On request of the Secretary of Defense, the head of an agency responsible for the administration of the navigation or vessel-inspection laws shall waive compliance with those laws to the extent the Secretary considers necessary in the interest of national defense.” 46 U.S.C. 501(a).

For the reasons stated above, and in light of the request from the Department of Defense and the concurrence of the Department of Energy, I am exercising my authority to waive the Jones Act for a 7-day period, commencing immediately, to facilitate movement of refined petroleum products, including gasoline, diesel, and jet fuel—to be shipped from New York, Pennsylvania, Texas, and Louisiana to South Carolina, Georgia, Florida, and Puerto Rico. This waiver applies to covered merchandise laded on board a vessel within the 7 day period of the waiver.

Executed this 8th day of September, 2017.
Elaine C. Duke,
Acting Secretary of Homeland Security.

[FR Doc. 2017-19523 Filed 9-13-17; 8:45 am]

BILLING CODE 9111-14-P